DEPARTMENT OF COMMERCE

National Oceanic and Atmospheric Administration

50 CFR Part 300

[RTID 0648-XE948]

Pacific Halibut Fisheries of the West Coast; 2025 Catch Sharing Plan; Inseason Action

AGENCY: National Marine Fisheries Service (NMFS), National Oceanic and Atmospheric Administration (NOAA), Commerce.

ACTION: Temporary rule; inseason adjustment; request for comments.

SUMMARY: NMFS announces inseason action for the Pacific halibut recreational fishery in the International Pacific Halibut Commission's (IPHC) regulatory Area 2A. This action adds fishing dates (June 9, 10, 16, 17, and 30) in the Columbia River subarea. The additional fishing dates are intended to provide opportunity for anglers necessary to achieve the overall recreational fishery allocation in the Pacific Fishery Management Council's (Council) 2025 Pacific Halibut Catch Sharing Plan.

DATES: Effective June 9, 2025, through September 30, 2025. Comments due on or before June 23, 2025.

ADDRESSES: Submit your comments, identified by NOAA-NMFS-2024-0139, by either of the following methods:

• Electronic Submission: Submit all electronic public comments via the Federal e-Rulemaking Portal. Go to https://www.regulations.gov and enter NOAA-NMFS-2024-0139 in the Search box. Click on the “Comment” icon, complete the required fields, and enter or attach your comments.

• Mail: Submit written comments to Jennifer Quan, Regional Administrator, c/o Heather Fitch, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov. Background information and documents are available at the NOAA Fisheries website at https://www.fisheries.noaa.gov/action/2025-pacific-halibut-recreational-fishery and at the Council's website at https://www.pcouncil.org. Other comments received may be accessed through https://www.regulations.gov.

FOR FURTHER INFORMATION CONTACT: Heather Fitch, (360) 867-8608, or heather.fitch@noaa.gov.

SUPPLEMENTARY INFORMATION:

Background

On April 2, 2025, NMFS published a final rule (90 FR 14422) implementing the 2025 Area 2A recreational (sport) fishery bag limits, fishing dates, and subarea allocations for all subareas in IPHC regulatory Area 2A. Inseason modifications to Area 2A recreational fisheries, including bag limits, state and subarea allocations, and fishing days per calendar week (i.e., fishing dates) are authorized under 50 CFR 300.63(c)(6), if it is determined it is necessary to meet the allocation objectives and if the action will not result in exceeding the allocation.

The final rule published on April 2, 2025 (90 FR 14422) that implemented the 2025 recreational fishery management measures also stated that, if at least 55 percent of the Columbia River subarea allocation remains as of May 25, 2025, then NMFS may take inseason action to add the following dates to the all-depth fishery: June 9, 10, 16, 17, and 30.

In accordance with 50 CFR 300.63(c), inseason actions are announced in the Federal Register and also on the NMFS hotline at (206) 526-6667 or (800) 662-9825. Weekly catch reports are available on their respective state Fish and Wildlife agency websites. NMFS will continue to monitor recreational catch estimates for all subareas obtained via state sampling procedures until NMFS has determined that there is not sufficient allocation for another full day of fishing and the area is closed by NMFS, or until there are no more open fishing dates, whichever is earlier.

After consulting with the Washington Department of Fish and Wildlife (WDFW) and the Oregon Department of Fish and Wildlife (ODFW), and other appropriate entities, NMFS has determined that the following action is necessary to meet the management objective of achieving, but not exceeding, the subarea allocations. This action was not previously implemented in the final rule on April 2, 2025 (90 FR 14422). This action is intended to provide opportunity for anglers to achieve the overall Area 2A recreational fishery allocation.

Inseason Action

The Pacific halibut fishery regulations for Area 2A at 50 CFR 300.63(c)(6) provide NMFS with the authority to modify annual management measures inseason, including fishing periods, following consultation with the Council, IPHC and the affected states, where such inseason modifications action is necessary to allow allocation objectives to be met and will not result in exceeding the allocation for Area 2A (50 CFR 300.63(c)(6)(i)(A), (i)(B) and (ii)(A)).

The Columbia River subarea recreational fishery opened on May 1, 2025. On May 25, 2025, catch estimates in the Columbia River subarea indicated that the remaining allocation was likely to exceed 55 percent of the subarea allocation, the threshold established in the final rule (90 FR 14422, April 2, 2025) to indicate that adding fishing dates may be warranted. Updated catch estimates show that, through May 25, 2025, anglers in the Columbia River subarea have harvested 8,745 pounds (3.97 mt) of the 19,087 pounds (8.7 mt) available for that subarea, leaving 10,342 pounds, or 54 percent remaining. Although the estimated remaining allocation is slightly under the 55 percent threshold described in the final rule (90 FR 14422, April 2, 2025) for setting additional dates in June by 156 pounds (0.07 mt), sufficient allocation remains to warrant adding fishing dates in the Columbia River subarea all-depth fishery. Catches on May 23 and 25, 2025, were anomalously high and current projections continue to indicate that a portion of the subarea allocation would go unharvested without additional fishing dates.

This inseason action implements the following additional fishing dates for the Columbia River subarea all-depth fishery:

• June 9, 10, 16, 17, and 30

If the subarea allocation is projected to be reached prior to June 30, the subarea will be closed when there is not sufficient subarea allocation for another full day of fishing.

Classification

NMFS issues this action pursuant to the Northern Pacific Halibut Act of 1982. This action is taken under the regulatory authority at 50 CFR 300.63(c)(6), and is exempt from review under Executive Order 12866.

Pursuant to 5 U.S.C. 553(b)(3)(B), there is good cause to waive prior notice and an opportunity for public comment on this action, as notice and comment would be impracticable and contrary to the public interest. WDFW and ODFW provided updated landings data to NMFS on May 29, 2025, showing that through May 25, 2025, an estimated 54 percent of the Columbia River subarea annual allocation was remaining. The final rule (90 FR 14422, April 2, 2025) specifies that when the remaining allocation in the Columbia River Subarea is at least 55 percent of the subarea allocation as of May 25, 2025, additional fishing dates may be warranted to increase angler opportunity to reach the overall subarea and Area 2A recreational fishery allocations. Although the remaining Columbia River subarea allocation is slightly under the threshold for additional dates in June, projections indicate that a portion of the Area 2A allocation would likely go unharvested without additional fishing dates, and thus that this inseason action is necessary to allow for the Area 2A allocation objectives to be met in accordance with 50 CFR 300.63(c)(6)(i)(A). This action should be implemented as soon as possible to allow fishery participants time to prepare to take advantage of the additional fishing dates. As the subarea closes on September 30, 2025, implementing this action through proposed and final rulemaking would undermine the benefit this action is intended to provide to fishery participants. Without implementation of additional fishing dates in the Columbia River subarea, the overall Area 2A recreational fishery allocation is unlikely to be harvested this year, thus limiting the economic benefits of the fishery to the fishery participants and obstructing the goals of the 2025 Catch Sharing Plan. It is necessary that this rulemaking be implemented in a timely manner so that planning for additional fishing dates can take place, and to allow for business and personal decision making by the regulated public impacted by this action, which includes recreational charter fishing operations, associated port businesses, and private anglers who do not live near the coastal access points for this fishery, among others. To ensure the regulated public is fully aware of this action, notice of this regulatory action will be provided to anglers through a telephone hotline, news release, and by the relevant state Fish and Wildlife agencies. NMFS will receive public comments for 15 days after publication of this action, in accordance with 50 CFR 300.63(c)(6)(iv). No aspect of this action is controversial, and changes of this nature were anticipated in the process described in regulations at 50 CFR 300.63(c).

For the reasons discussed above, there is also good cause under 5 U.S.C. 553(d)(3) to waive the 30-day delay in effective date and make this action effective immediately upon filing for public inspection, as a delay in effectiveness of this action would constrain fishing opportunity, be inconsistent with the goals of the 2025 Catch Sharing Plan, and potentially limit the economic opportunity intended by this rule to the associated fishing communities. This inseason action is not expected to result in exceeding the allocation for the Columbia River subarea or IPHC regulatory Area 2A. NMFS regulations allow the Regional Administrator to modify sport fishing periods, bag limits, size limits, days per calendar week, and subarea allocations, when the action supports allocation objectives being met, and provided that such action will not result in exceeding the catch limit for the subarea. NMFS recently received information on the progress of landings in the recreational fisheries in the Columbia River subarea, indicating additional season dates should be implemented in the fishery to ensure optimal harvest of the subarea allocation. As stated above, it is in the public interest that this action not be delayed, because a delay in the effectiveness of these new dates could prevent the allocation objectives of the recreational Pacific halibut fishery from being met.

Authority: 16 U.S.C. 773-773k.

Dated: June 3, 2025.
Kelly Denit,
Director, Office of Sustainable Fisheries, National Marine Fisheries Service.

[FR Doc. 2025-10330 Filed 6-5-25; 8:45 am]

BILLING CODE 3510-22-P